DEPARTMENT OF HOUSING AND URBAN DEVELOPMENT

[Docket No. FR-5601-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of Army, Office of the Chief of Staff for Installation Management, 600 Army Pentagon, Room 5A128, Washington, DC 20310, 571-256-8145; GSA: Mr. Flavio Peres, General Services Administration, Office of Real Property Utilization and Disposal, 1800 F Street NW., Room 7040 Washington, DC 20405, (202) 501-0084; NAVY: Mr. Steve Matteo, Department of the Navy, Asset Management Division, Naval Facilities Engineering Command, Washington Navy Yard, 1330 Patterson Ave. SW., Suite 1000, Washington, DC 20374; (This is not toll-free numbers).

Dated: November 29, 2012.
Ann Marie Oliva,
Deputy Assistant Secretary for Special Needs (Acting).

TITLE V, FEDERAL SURPLUS PROPERTY PROGRAM FEDERAL REGISTER REPORT FOR 12/07/2012

Suitable/Available Properties

Building

Georgia

Building 8603

Red Arrow Rd.

Ft. Benning GA 31905

Landholding Agency: Army

Property Number: 21201240004

Status: Unutilized

Comments: off-site removal only; 192 sf.; Sep Toil/Shower; poor conditions; secured area; contact Army for info. on accessibility/removal

Building 8585

9734 Eighth Division

Ft. Benning GA 31905

Landholding Agency: Army

Property Number: 21201240005

Status: Unutilized

Comments: off-site removal only; 192 sf.; Sep Toil/Shower; poor conditions; secured area; contact Army for info. on accessibility/removal

Building 8018

7964 First Division Rd.

Ft. Benning GA 31905

Landholding Agency: Army

Property Number: 21201240006

Status: Unutilized

Comments: off-site removal only; 264 sf.; Sep Toil/Shower; poor conditions; secured area; contact Army for info. on accessibility/removal

Building 4156

6923 Rosell St.

Ft. Benning GA 31905

Landholding Agency: Army

Property Number: 21201240007

Status: Unutilized

Comments: off-site removal only; 8,460 sf.; TRANS UPH AST; poor conditions

Building 2835

6498 Way Ave.

Ft. Benning GA 31905

Landholding Agency: Army

Property Number: 21201240008

Status: Unutilized

Comments: off-site removal only; 2,578 sf.; BN HQ BLDG. TT; poor conditions

Hawaii

6 Properties

Schofield Barracks

Wahiawa HI 96786

Landholding Agency: Army

Property Number: 21201240027

Status: Unutilized

Directions: 24, 1005, 2276, B0886, M3010, QBAMP

Comments: Off-site removal only, sf. varies; poor conditions, contact Army for information on accessibility removal and specific details on a particular property

Ft. Shafter

136 Takata Road

Honolulu HI 96858

Landholding Agency: Army

Property Number: 21201240029

Status: Unutilized

Directions: 1536

Comments: Off-site removal only; 2,117 Sf., auto shop; need repairs.

Illinois

Building 103

2510 Luce Blvd.

Great Lakes IL 60088

Landholding Agency: Navy

Property Number: 77201240005

Status: Unutilized

Comments: Off-site removal only 5,531 sf., public shop, vacant since Jan. 2011, poor condition, lead/asbestos identified, secure area, contact Navy information on accessibility/removal.

Maryland

4 Buildings

Aberdeen Proving Ground

Aberdeen MD 21005

Landholding Agency: Army

Property Number: 21201240001

Status: Unutilized

Directions: 3409, 3410, E3615, RAILR

Comments: Off-site removal only; sf. varies; moderate conditions; located w/in secured area; contact Army on accessibility/removal and specific details on a property.

New Jersey

4 Buildings

Route 15 North

Picatinny Arsenal NJ 07806

Landholding Agency: Army

Property Number: 21201240026

Status: Unutilized

Directions: 3701, 3702, 3706, 3709

Comments: Off-site removal only, sq. varies, moderate conditions, restricted area; contact Army for information on accessibility removal and specific details on a particular property.

New York

Building 1560

Rte. 293

West Point NY 10996

Landholding Agency: Army

Property Number: 21201240024

Status: Unutilized

Comments: Off-site removal only, 4544 sf., storage severely damage from Hurricane Irene, restricted area, contact Army on information on accessibility/removal.

Building 2104

West Point

West Point NY 10996

Landholding Agency: Army

Property Number: 21201240030

Status: Unutilized

Comments: Off-site removal only, 2,000 sf., office for red cross, good condition, restricted area, contacts army on info. on accessibility/removal.

4 Buildings

Ft. Drum

Ft. Drum NY 13602

Landholding Agency: Army

Property Number: 21201240037

Status: Unutilized

Directions: BRG28, 22374, 22354, 22254

Comments: Off-site removal only, poor conditions, restricted area, contact Army for accessibility/removal & specific details on a property.

3 Buildings

Ft. Drum

Ft. Drum NY 13602

Landholding Agency: Army

Property Number: 21201240045

Status: Unutilized

Directions: 2069, 2080, 21354

Comments: Off-site removal only, sf. varies, moderate deterioration, restricted area, contact Navy for information on accessibility/removal & specific details on a particular property.

North Carolina

Building 42843

Ft. Bragg

Ft. Bragg NC 28310

Landholding Agency: Army

Property Number: 21201240034

Status: Underutilized

Directions: 42843

Comments: Located in a secured area, public access is denied and no alternative method to gain access without compromising national security.

Oklahoma

20 Buildings

Ft. Sill

Ft. Sill OK 73503

Landholding Agency: Army

Property Number: 21201240021

Status: Unutilized

Directions: 3456, 3457, 3460, 3462, 3463, 3466, 3467, 3468, 3470, 3472, 3473, 3476, 3477, 3479, 6009, 6010, 6012, 6014, 6015, 6018

Comments: Off-site removal only, sf varies, fair conditions, contact Army for info on specific details on a particular property.

29 Buildings

Ft. Sill

Ft. Sill OK 73503

Landholding Agency: Army

Property Number: 21201240028

Status: Unutilized

Directions: 1, 344, 2522, 2525, 2597, 2598, 2599, 2772, 2774, 2775, 2777, 3355, 3357, 3358, 3360, 3361, 3362, 3363, 3364, 3368, 3401, 3402, 3403, 3404, 3405, 3451, 3452, 3453, 3454

Comments: Off-site removal only, sf. varies, fair conditions, contact Army for specific details for a particular property.

Puerto Rico

3 Buildings

Ft. Buchanan

Guaynabo PR 00934

Landholding Agency: Army

Property Number: 21201240041

Status: Excess

Directions: 19, 234, 294

Comments: Off-site removal only, sf. varies, deteriorated, restricted area, contact Army for information on accessibility/removal, specific on a particular property.

Building 293

Crane Loop

Ft. Buchanan PR 00934

Landholding Agency: Army

Property Number: 21201240049

Status: Excess

Comments: Off-site removal only; 54 sf.; ready magazine; 24 mons. vacant; restricted area; deteriorated; contact Army for accessibility/removal requirements.

Texas

Building 11142

SSG Sims Rd.

Ft. Bliss TX 79916

Landholding Agency: Army

Property Number: 21201240009

Status: Excess

Comments: Off-site removal only; 12,644 sf.; mess hall; poor conditions; limited public access; contact Army for info. on accessibility/removal.

Building 6951

11331 Montana Ave.

Ft. Bliss TX 79916

Landholding Agency: Army

Property Number: 21201240010

Status: Excess

Comments: Off-site removal only; 288 sf.; utility bldg.; poor conditions; limited public access; contact Army for info. on accessibility/removal

Building 6942

11331 Montana Ave.

Ft. Bliss TX 79916

Landholding Agency: Army

Property Number: 21201240011

Status: Excess

Comments: Off-site removal only; 1,059 sf.; storage; poor conditions; limited public access; contact Army for info. on accessibility/removal

Building 6924

11331 Montana Ave.

Ft. Bliss TX 79916

Landholding Agency: Army

Property Number: 21201240012

Status: Excess

Comments: Off-site removal only; 10,340 sf.; aircraft hangar; poor conditions; limited public access; contact Army for info. on accessibility/removal

Bldg. 2432

Carrington Rd.

Ft. Bliss TX 79916

Landholding Agency: Army

Property Number: 21201240013

Status: Excess

Comments: Off-site removal only; 180 sf.; dispatch bldg.; poor conditions; limited public access; asbestos/lead identified; contact Army for info. on accessibility/removal

Building 50

50 Slater Rd.

Ft. Bliss TX 79916

Landholding Agency: Army

Property Number: 21201240014

Status: Excess

Comments: Off-site removal only; 9,900 sf.; office; poor conditions; limited public access; asbestos/lead identified; contact Army for info. on accessibility/removal

2 Buildings

Ft. Hood

Ft. Hood TX 76544

Landholding Agency: Army

Property Number: 21201240044

Status: Excess

Directions: 706, 4286

Comments: Off-site removal only, sf. varies, fair conditions, asbestos, restricted area, contact Army for accessibility/removal & specific details on a property.

Virginia

9 Buildings

Ft. Belvoir

Ft. Belvoir VA 22060

Landholding Agency: Army

Property Number: 21201240003

Status: Unutilized

Directions: 358, 361, 1140, 1141, 1142, 1143, 1498, 1499, 2302

Comments: Off-site removal only; sf. varies; Admin.; fair conditions; located in restricted area; contact Army for info. on accessibility/removal & specific info. on a property

Building 3074

Epperson Avenue

Quantico VA 22134

Landholding Agency: Navy

Property Number: 77201240003

Status: Excess

Comments: Off-site removal only 7,705 sf. office, very poor conditions, secured area, contact Navy for information on accessibility/removal.

Building 3074

Epperson Avenue

Quantico VA 22134

Landholding Agency: Navy

Property Number: 77201240004

Status: Excess

Comments: Off-site removal only 7,705 sf. office, very poor conditions, secured area, contact Navy for information on accessibility/removal.

Wisconsin

11 Buildings

Ft. McCoy

Ft. McCoy WI 54656

Landholding Agency: Army

Property Number: 21201240019

Status: Excess

Directions: 2120, 2122, 2124, 2140, 2142, 2144, 2146, 2148, 2197, 2677, 9056

Comments: Off-site removal only, sf. varies, fair conditions, lead-based paint, restricted area, contact Army for accessibility/removal & specific details on a property.

13 Buildings

Ft. McCoy

Ft. McCoy WI 54656

Landholding Agency: Army

Property Number: 21201240020

Status: Unutilized

Directions: 716, 717, 738, 753, 54, 1248, 1249. 1250, 1251, 1616, 1617, 1738, 1739

Comments: Off-site removal only, sf. varies, fair conditions, asbestos, restricted area, contact Army for information on accessibility removal and details on a particular property.

Buildings 237 and 2118

Ft, McCoy

Ft. McCoy WI 54656

Landholding Agency: Army

Property Number: 21201240023

Status: Excess

Directions: 237, 2118

Comments: Off-site removal only 6,138 sf., vehicle maintained bldg., fair conditions; lead-based paint, restricted area, contacts Army for information on removal requirements.

Suitable/Available Properties

Land

California

Hydro Electric Power Plant

1402 San Rogue Rd.

Santa Barbara CA 93105

Landholding Agency: GSA

Property Number: 54201240009

Status: Excess

GSA Number: 9-I-CA-1693

Comments: .0997 acres; behind secured gate for Lauro Dame & Reservoir; will impact conveyance; contact GSA for more details

Unsuitable Properties

Building

Alabama

6 Buildings

Anniston Army Depot

Anniston AL 36201

Landholding Agency: Army

Property Number: 21201240002

Status: Unutilized

Directions: 42, 148, 171, 415, 601, 651

Comments: Located on military installation; public access denied & no alternative method to gain access w/out compromising nat'l security

Reasons: Secured Area

California

13 Buildings

Sierra Army Depot

Herlong CA 96113

Landholding Agency: Army

Property Number: 21201240032

Status: Unutilized

Directions: 10, 20, 54, 141, 202, 227, 633, 634, 639, 640, 641, 642, 643

Comments: Located in a secured area, public access is denied and no alternative method to gain access without compromising national security.

Reasons: Secured Area

Kentucky

8 Buildings

Ft. Knox

Ft. Knox KY 40121

Landholding Agency: Army

Property Number: 21201240043

Status: Unutilized

Directions: 5260, 5261, 6589, 7718, 7726, 7727, 7728, 9247

Comments: Located on secured military installation, where public access is denied & no alternative method to gain access without compromising national security.

Reasons: Secured Area

8 Buildings

Ft. Knox

Ft. Knox KY 40121

Landholding Agency: Army

Property Number: 21201240047

Status: Unutilized

Directions: 93, 430, 445, 1414, 2768, 2798, 4016

Comments: Located in secured area; public access denied & no alternative method to gain access w/out compromising nat'l security

Reasons: Secured Area

Maryland

2 Buildings

Aberdeen Proving Ground

Aberdeen MD 21005

Landholding Agency: Army

Property Number: 21201240048

Status: Unutilized

Directions: 306 and 5043

Comments: Located in secured area; public access denied and no alternative method to gain access w/out compromising nat'l security

Reasons: Secured Area

Missouri

4 Buildings

Ft. Leonard Wood

Ft. Leonard Wood MO 65473

Landholding Agency: Army

Property Number: 21201240017

Status: Unutilized

Directions: 691, 692, 693, 694

Comments: Located in secured area, public access denied & no alternative method to gain access without compromising national security.

Reasons: Secured Area

North Carolina

2 Buildings

Ft. Bragg

Ft. Bragg NC 28310

Landholding Agency: Army

Property Number: 21201240015

Status: Underutilized

Directions: W2976, W2979

Comments: Located on secured military installation; authorized personnel only; public access denied & no alternative method to gain access w/out compromising nat'l security

Reasons: Secured Area

4 Buildings

Ft. Bragg

Ft. Bragg NC 28310

Landholding Agency: Army

Property Number: 21201240016

Status: Unutilized

Directions: M6135, M6151, O3305, O4305

Comments: Located on secured military installation; authorized personnel only; public access denied & no alternative method to gain access w/out compromising nat'l security

Reasons: Secured Area

6 Buildings

Ft. Bragg

Ft. Bragg NC 28310

Landholding Agency: Army

Property Number: 21201240031

Status: Unutilized

Directions: J1951, A5786, A5785, A5679, A4290, A3275

Comments: Located in secured military installation, public access denied & no alternative method to gain access without compromising national security.

Reasons: Secured Area

5 Buildings

Ft. Bragg

Ft. Bragg NC 28310

Landholding Agency: Army

Property Number: 21201240033

Status: Unutilized

Directions: 85306, A5624, D1910, H4401, H4802

Comments: Located in restricted area, public access denied & no alternative method to gain access without compromising national security

Reasons: Secured Area

4 Buildings

Ft. Bragg

Cumberland NC 28308

Landholding Agency: Army

Property Number: 21201240036

Status: Unutilized

Directions: 15, 115, 32033, 41442

Comments: Located in a secured military installation, public access denied and no alternative method to gain access without compromising national security.

Reasons: Secured Area

Ohio

Site #39225

Defense Supply Center

Columbus OH 43218

Landholding Agency: Army

Property Number: 21201240042

Status: Underutilized

Directions: 00016, 01017

Comments: Located in a secured military installation, public access denied and no alternative method to gain access without compromising national security.

Reasons: Secured Area

Vermont

6 Buildings

Ethan Allen Range

Jericho VT 05465

Landholding Agency: Army

Property Number: 21201240035

Status: Unutilized

Directions: 004-2,004-3, 03020, 04009, 04010, 04011

Comments: Located on secured military installation where public access is denied & no alternative method to gain access without compromising national security

Reasons: Secured Area

Virginia

Building 238

Joint Base Mayer-Henderson Hall

Ft. Myer VA 22211

Landholding Agency: Army

Property Number: 21201240025

Status: Unutilized

Directions: 238

Comments: Located in secured area, public access denied and no alternative meted to gain access without compromising national security.

Reasons: Secured Area

Washington

5 Buildings

Joint Base Lewis McChord

Joint Base Lewis McChord WA 98433

Landholding Agency: Army

Property Number: 21201240046

Status: Unutilized

Directions: 2205, 2206, 2260, 2265, 6182

Comments: Located on secured military cantonment area where public access is denied & no alternative method to gain access without compromising national security

Reasons: Secured Area

[FR Doc. 2012-29355 Filed 12-6-12; 8:45 am]

BILLING CODE 4210-67-P